DEPARTMENT OF AGRICULTURE

Forest Service

Notice of Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Boise and Payette National Forests' Southwest Idaho Resource Advisory Committee will meet Wednesday, February 20, 2002 in Boise, Idaho for a business meeting. The meeting is open to the public.

FOR FURTHER INFORMATION CONTACT: Randy Swick, McCall District Ranger and Designated Federal Officer, at (208) 634-0400.

SUPPLEMENTARY INFORMATION: The business meeting on February 20, begins at 10:30 AM, at the Idaho Counties Risk Management Program Building, 3100 South Vista Avenue, Boise, Idaho. Agenda topics will include development and approval of form for submitting project proposals, development of procedures for soliciting project proposals, a guest speaker, and an open public forum.

Dated: January 30, 2002.
David F. Alexander,
Forest Supervisor.

[FR Doc. 02-2969 Filed 2-6-02; 8:45 am]

BILLING CODE 3410-11-M